DEPARTMENT OF HEALTH AND HUMAN SERVICES

Health Resources and Services Administration

[OMB No. 0906-0053—Extension]

Agency Information Collection Activities: Proposed Collection: Public Comment Request; Information Collection Request Title: Coronavirus 2019 Data Report

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than November 2, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Coronavirus 2019 Data Report OMB No. 0915-0906-0053—Extension.

Abstract: This information collection request was previously approved by the Office of Management and Budget (OMB) on June 11, 2020, as an emergency clearance (OMB No.: 0906-0053). HRSA is currently undergoing the standard Paperwork Reduction Act process for normal OMB approval.

HRSA's Ryan White HIV/AIDS Program (RWHAP) funds and coordinates with cities, states, and local clinics/community-based organizations to deliver efficient and effective HIV care, treatment, and support to low income people with HIV. Nearly two-thirds of clients (patients) live at or below 100 percent of the federal poverty level and approximately three-quarters of RWHAP clients are racial/ethnic minorities. Since 1990, the RWHAP has developed a comprehensive system of safety net providers who deliver high quality direct health care and support services to over half a million people with HIV—more than 50 percent of all people with diagnosed HIV in the United States.

FY 2020 Coronavirus Aid, Relief, and Economic Security Act

On March 27, 2020, the President signed into law the “Coronavirus Aid, Relief, and Economic Security Act” (CARES Act). The CARES Act appropriated $90 million to HRSA's RWHAP to prevent, prepare for, and respond to coronavirus disease 2019 (COVID-19). This funding supports 581 RWHAP recipients across the country, including city/county health departments, state health departments, health clinics, community-based organizations, and AIDS Education and Training Centers in their efforts to help prevent or minimize the impact of COVID-19 on RWHAP clients. The award provides RWHAP recipients the flexibility to meet evolving COVID-19 needs in their respective communities, including extending operational hours, increasing staffing hours, purchasing additional equipment, enhancing workforce training and capacity development, and providing critical services to people with HIV during this pandemic, such as home-delivered meals, emergency housing, and transportation.

HRSA identified a new data collection need to support HRSA's requirement to monitor and report quarterly to the Secretary of HHS the COVID-19 activities conducted with the CARES Act funding. The COVID-19 Data Report module will provide monthly reporting on the types of services provided and number of people served for the treatment or prevention of COVID-19 among RWHAP clients (and immediate household members in limited circumstances). This module will be required for all providers (regardless of whether they are recipients or subrecipients) who receive CARES Act RWHAP funding.

Need and Proposed Use of the Information: HRSA proposes that service providers who receive CARES Act RWHAP funding report aggregate information on the number of clients and immediate household members tested for COVID-19, the number of clients newly diagnosed (or presumed positive) with COVID-19, the cumulative number of clients with COVID-19, the number of clients who received services in each RWHAP service category (identified in Policy Clarification Notice 16-02 Ryan White HIV/AIDS Program Services: Eligible Individuals and Allowable Uses of Funds), and the types of services provided using telehealth technology in the COVID-19 Data Report. The information obtained in this module will assist HRSA in understanding how CARES Act RWHAP funding is being used to support RWHAP clients and immediate household members and ensure that HRSA is compliant with federal reporting requirements.

Likely Respondents: All RWHAP providers (regardless of whether they are recipients or subrecipients) who receive CARES Act RWHAP funding.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
COVID-19 Data Report | 2045 | 12 | 24,540 | 2 | 49,080
| 2045 |  | 24,540 |  | 49,080

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-19247 Filed 8-31-20; 8:45 am]

BILLING CODE 4165-15-P